FEDERAL COMMUNICATIONS COMMISSION

47 CFR Parts 2, 25, 73, 90, and 97

[ET Docket No. 04-139; FCC 05-70]

WRC-03 Omnibus

AGENCY: Federal Communications Commission.

ACTION: Final rule; correction.

SUMMARY: On August 10, 2005, (70 FR 46576) the Commission published final rules in a Report and Order, which implemented allocation changes to the frequency range between 5900 kHz and 27.5 GHz in furtherance of decisions that were made at the World Radiocommunication Conference (Geneva 2003) (WRC-03). This document contains corrections to 47 CFR 2.101 and 2.106.

DATES: Effective September 9, 2005.

FOR FURTHER INFORMATION CONTACT: Tom Mooring, Office of Engineering and Technology, (202) 418-2450, e-mail: Tom.Mooring@fcc.gov.

SUPPLEMENTARY INFORMATION: In rule FR Doc. 05-15213 published August 10, 2005 (70 FR 46576) make the following corrections.

1. On page 46585, in the third column, the table in § 2.101 is corrected by removing the periods at the end of the entries under the column entitled “Metric abbreviations for the bands.” The corrected table reads as follows (the notes are not shown):

Band number | Symbols | Frequency range (lower limit exclusive, upper limit inclusive) | Corresponding metric subdivision | Metric abbreviations for the bands
4 | VLF | 3 to 30 kHz | Myriametric waves | B.Mam
5 | LF | 30 to 300 kHz | Kilometric waves | B.km
6 | MF | 300 to 3 000 kHz | Hectometric waves | B.hm
7 | HF | 3 to 30 MHz | Decametric waves | B.dam
8 | VHF | 30 to 300 MHz | Metric waves | B.m
9 | UHF | 300 to 3 000 MHz | Decimetric waves | B.dm
10 | SHF | 3 to 30 GHz | Centimetric waves | B.cm
11 | EHF | 30 to 300 GHz | Millimetric waves | B.mm
12 |  | 300 to 3000 GHz | Decimillimetric waves

BILLING CODE 6712-01-P

2. On page 46609, page 21 of the Table of Frequency Allocations (47 CFR 2.106) is corrected in order to correct the omission of footnote US223 to read as follows:

3. On page 46619, page 31 of the Table of Frequency Allocations (47 CFR 2.106) is corrected in order to correct the omission of footnote US343 to read as follows:

4. On page 46629, page 41 of the Table of Frequency Allocations (47 CFR 2.106) is corrected in order to correct the rule part cross references for the bands that comprise 6525-7125 MHz to read as follows:

BILLING CODE 6712-01-C

5. On page 46674, in the first column, footnote US396 paragraph (a) of the Table of Frequency Allocations, 47 CFR 2.106, is corrected to read as follows:

(a) Until March 25, 2007, the band 7300-7350 kHz is allocated to the fixed service on a primary basis and to the mobile except aeronautical mobile service on a secondary basis for Federal and non-Federal use. After March 25, 2007, authority to operate in the band 7300-7350 kHz shall not be extended to new non-Federal stations in the fixed and mobile except aeronautical mobile services. After March 25, 2007, Federal and non-Federal stations in the fixed and mobile except aeronautical mobile services shall:

(1) Be limited to communications wholly within the United States and its insular areas;

(2) Not cause harmful interference to the broadcasting service;

(3) Be limited to the minimum power needed to achieve communications; and

(4) Take account of the seasonal use of frequencies by the broadcasting service published in accordance with Article 12 of the ITU Radio Regulations.

6. On page 46674, in the third column, footnote NG142 of the Table of Frequency Allocations, 47 CFR 2.106, is corrected to read as follows:

NG142 TV broadcast stations authorized to operate in the bands 54-72 MHz, 76-88 MHz, 174-216 MHz, 470-608 MHz, and 614-806 MHz may use a portion of the television vertical blanking interval for the transmission of telecommunications signals, on the condition that harmful interference will not be caused to the reception of primary services, and that such telecommunications services must accept any interference caused by primary services operating in these bands.

Federal Communications Commission.
Marlene H. Dortch,
Secretary.

[FR Doc. 05-17796 Filed 9-6-05; 8:45 am]

BILLING CODE 6712-01-P